NATIONAL TRANSPORTATION SAFETY BOARD

Sunshine Act Meeting

Time and Place: 9:30 a.m., Tuesday, January 27, 2004.

Place: NTSB Conference Center, 429 L'Enfant Plaza SW., Washington, DC 20594.

Status: The two items are open to the public.

Matters To Be Considered:

7610—Highway Accident Report—School Bus Run-off-Bridge Accident, Omaha, Nebraska, October 13, 2001.

7470C—Opinion and Order: Administrator v. Donnelly, Docket SE-16222; Disposition of Respondent's and the Administrator's Petitions for Reconsideration.

News Media Contact: Telephone: (202) 314-6100.

Individuals requesting specific accommodations should contact Ms. Carolyn Dargan at (202) 314-6305 by Friday, January 23, 2004.

FOR FURTHER INFORMATION CONTACT: Vicky D'Onofrio, (202) 314-6410.

Dated: January 16, 2004.
Vicky D'Onofrio,
Federal Register Liaison Officer.

[FR Doc. 04-1340 Filed 1-16-04; 1:00 pm]

BILLING CODE 7533-01-M